FEDERAL COMMUNICATIONS COMMISSION

Notice of Public Information Collection(s) Being Reviewed by the Federal Communications Commission, Comments Requested

January 10, 2008.

SUMMARY: The Federal Communications Commission, as part of its continuing effort to reduce paperwork burden, invites the general public and other Federal agencies to take this opportunity to comment on the following information collection(s), as required by the Paperwork Reduction Act of 1995 (PRA), 44 U.S.C. 3501-3520. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before March 17, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554.

FOR FURTHER INFORMATION CONTACT: For additional information about the information collection(s), contact Leslie F. Smith via the Internet at PRA@fcc.gov or call (202) 418-0217.

SUPPLEMENTARY INFORMATION: OMB Control Number: 3060-0819.

Title: Lifeline Assistance (Lifeline) Connection Assistance (Link-Up) Reporting Worksheet and Instructions (47 CFR 54.400-54.417).

Form Number: FCC Form 497.

Type of Review: Revision of a currently approved collection.

Respondents: Individuals or households; and business or other for-profit.

Number of Respondents and Responses: 181,855 respondents; 181,855 responses.

Estimated Time per Response: 0.08-18 hours.

Obligation To Respond: Required to obtain or retain benefits.

Frequency of Response: On occasion, monthly, annually, and one-time reporting requirements; recordkeeping requirement; and third party disclosure requirement.

Total Annual Burden: 48,619 hours.

Total Annual Cost: $0.00.

Privacy Act Impact Assessment: No impacts.

Nature of Extent of Confidentiality: The respondents may request confidentiality protection for the special access performance information. The respondents are not required to file their customers' monthly usage information with the Federal Communications Commission (FCC).

Needs and Uses: In the Lifeline Order, WC Docket No. 03-109, FCC 04-87, adopted and released in April 2004, the Commission adopted the Joint Board's recommendation to require all states, including federal default states, to adopt certification procedures to document income-based eligibility for Lifeline/Link-Up enrollment. Because self-certification of income is more difficult to confirm than is a self-certification of program participation, the Commission agreed with the Joint Board that requiring presentation of documentation supporting income eligibility would protect against fraud and abuse. The Commission held similar concerns for continued enrollment in the Lifeline/Link-Up program and required documentation of eligibility for continued enrollment in the program. In conjunction with presentation of income eligibility documentation, all eligible telecommunications carriers (ETC) are required to certify that the ETC has procedures in place to review presented documentation or to certify that it is in compliance with the state requirements established to review income eligibility documentation. ETCs must retain records of their certifications. In addition, the applicant is required to certify the accuracy of the state household income and the number of persons in the household. ETCs are required to collect and retain these certifications. The FCC Form 497 was revised to clarify instructions, add new data elements to the form to clarify specific requirements and reformatted for ease of completing. In addition to the certification and verification requirements noted above, the Commission directed USAC to issue a voluntary survey to gather data and information about state Lifeline/Link-Up programs. This will enable the Commission to make more informed decisions in any future Commission orders.

Federal Communications Commission.
Marlene H. Dortch,
Secretary.

[FR Doc. E8-744 Filed 1-16-08; 8:45 am]

BILLING CODE 6712-01-P